ENVIRONMENTAL PROTECTION AGENCY

[OW-2002-0047; FRL-7439-4]

Agency Information Collection Activities: Submission EPA ICR Number 1814.03 (OMB No. 2040-0189) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Health Protection Survey of Beaches (OMB Control Number 2040-0189, EPA ICR Number 1814.03). The ICR, which is abstracted below, describes the nature of the information collection and its expected burden and cost.

DATES: Additional comments may be submitted on or before February 18, 2003.

ADDRESSES: Follow the detailed instructions in SUPPLEMENTARY INFORMATION.

FOR FURTHER INFORMATION CONTACT: Mr. Rick Hoffmann, Standards and Health Protection Division (MC 4305T), Office of Science and Technology, Office of Water, Environmental Protection Agency, 1200 Pennsylvania Avenue, NW., Washington, DC 20460; telephone number: (202) 566-0388; fax number: (202) 566-0409; e-mail address: hoffmann.rick@epa.gov.

SUPPLEMENTARY INFORMATION: EPA has submitted the following ICR to OMB for review and approval according to the procedures prescribed in 5 CFR 1320.12. On 08/13/2002 (67 FR 52716), EPA sought comments on this ICR pursuant to 5 CFR 1320.8(d). EPA received one comment.

EPA has established a public docket for this ICR under Docket ID No. OW-2002-0047, which is available for public viewing at the Water Docket in the EPA Docket Center, EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to OW-docket@epa.gov, or by mail to: EPA Docket Center, Environmental Protection Agency, Mailcode: 4101T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: National Health Protection Survey of Beaches (OMB Control No. 2040-0189, EPA ICR Number 1814.03). This is a request to renew an existing approved collection that is scheduled to expire on 1/31/2003. Under the OMB regulations, the Agency may continue to conduct or sponsor the collection of information while this submission is pending at OMB.

Abstract: Bacterial and other microbiological contaminants continue to pose potentially serious human health problems for the Nation's recreational waters, including bathing beaches. These adverse effects have been one of EPA's long-standing concerns. They are directly related to such Clean Water Act responsibilities as water quality standards and surface water quality, and to the Agency's efforts to ensure that the waters of the United States are “fishable” and “swimmable.” In 1986, EPA formally issued a revision to its bacteriological ambient water quality criteria recommendations to protect persons participating in body contact recreation. In addition, recent studies have confirmed the adverse health effects resulting from bathing in contaminated waters. Therefore, water quality in bathing beach areas is a critical concern to EPA.

EPA believes there is a need to improve the overall quality and availability of public information about health protection activities at beaches, which include, but are not limited to, water quality standards, monitoring and assessment activities, and beach closures. Many organizations share responsibility for these activities. Consequently, EPA's Office of Water will conduct an annual “beach” survey which will be sent to environmental health officials from State, tribal, county, and city agencies, as well as representatives from various interest groups. It will obtain and verify information on the location and condition of swimming beaches and the agencies and persons responsible for maintaining and issuing advisories or closings for those beaches at inland sites around the Nation. Responses to the questionnaire (either on paper or electronically via the Internet) will help to determine compliance with water quality standards, to assess public health risks, and to determine what steps EPA should take next, if any. Completion of the questionnaire and map marking will be voluntary.

EPA will assemble the information (maps and questionnaire responses) into electronic database and graphic formats that can be readily analyzed and shared with responsible parties (e.g., EPA program and regional offices, other federal, state, tribal, county, and city agencies), as well as the public. The nationwide collection of information is being conducted in phases over three years, with an average estimated number of respondents of 130 per year. When the survey is fully implemented, it is estimated that 391 respondents per year will be involved. The estimated annual cost for the survey per respondent is anticipated to decrease each year, since respondents will only be requested to provide information that has changed during the year.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 2.4 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and county, public health, and environmental protection agencies.

Estimated Number of Respondents: 130.

Frequency of Response: annual.

Estimated Total Annual Hour Burden: 312.

Estimated Total Annualized Cost Burden (non-labor costs): $195.

Changes in the Estimates: There is a decrease of 968 hours in the total estimated burden currently identified in the OMB Inventory of Approved ICR Burdens. This decrease is due to a reduction in the number of respondents for this ICR. This ICR will collect information only from inland beaches that are not required to report to EPA, or those states that do not apply for the BEACH Act Grants.

Dated: January 8, 2003.
Oscar Morales,
Director, Collection Strategies Division.

[FR Doc. 03-966 Filed 1-15-03; 8:45 am]

BILLING CODE 6560-50-P